FEDERAL COMMUNICATIONS COMMISSION

47 CFR Parts 1 and 64

[CG Docket No. 12-129; FCC 12-56]

Implementation of the Middle Class Tax Relief and Job Creation Act of 2012; Establishment of a Public Safety Answering Point Do-Not-Call Registry

AGENCY: Federal Communications Commission.

ACTION: Proposed rule.

SUMMARY: In this document, the Commission initiates a proceeding to create a Do-Not-Call registry for public safety answering points (PSAPs) as required by the “Middle Class Tax Relief and Job Creation Act of 2012” (Tax Relief Act). Specifically, section 6507 of the Tax Relief Act requires the Commission, among other things, to establish a registry that allows PSAPs to register telephone numbers on a Do-Not-Call list and prohibit the use of automatic dialing equipment to contact those numbers. Therefore, the Commission seeks comment on a variety of issues relating to the establishment and ongoing management of the PSAP registry. The proposed rules are designed to address concerns about the use automatic dialing equipment, which can generate large numbers of phone calls in a short period of time, tie up public safety lines, divert critical responder resources away from emergency services, and impede access by the public to emergency lines.

DATES: Interested parties may file comments on or before July 23, 2012. Reply comments are due on or before August 6, 2012.

ADDRESSES: You may submit comments, identified by CG Docket No. 12-129, by any of the following methods:

Electronic Filers: Comments may be filed electronically using the Internet by accessing the Commission's Electronic Comment Filing System (ECFS), through the Commission's Web site: http://fjallfoss.fcc.gov/ecfs2/. Filers should follow the instructions provided on the Web site for submitting comments. For ECFS filers, in completing the transmittal screen, filers should include their full name, U.S. Postal service mailing address, and CG Docket No. 12-129.

Paper Filers: Parties who choose to file by paper must file an original and four copies of each filing. Filings can be sent by hand or messenger delivery, by commercial overnight courier, or by first-class or overnight U.S. Postal Service mail (although the Commission continues to experience delays in receiving U.S. Postal Service mail). All filings must be addressed to the Commission's Secretary, Office of the Secretary, Federal Communications Commission.

All hand-delivered or messenger-delivered paper filings for the Commission's Secretary must be delivered to FCC Headquarters at 445 12th St. SW., Room TW-A325, Washington, DC 20554. The filing hours are 8:00 a.m. to 7:00 p.m. All hand deliveries must be held together with rubber bands or fasteners. Any envelopes and boxes must be disposed of before entering the building.

Commercial overnight mail (other than U.S. Postal Service Express Mail and Priority Mail) must be sent to 9300 East Hampton Drive, Capitol Heights, MD 20743. U.S. Postal Service first-class, Express, and Priority mail must be addressed to 445 12th Street SW., Washington, DC 20554.

In addition, parties must serve one copy of each pleading with the Commission's duplicating contractor, Best Copy and Printing, Inc., 445 12th Street SW., Room CY-B402, Washington, DC 20554, or via email to fcc@bcpiweb.com.

For detailed instructions for submitting comments and additional information on the rulemaking process, see the SUPPLEMENTARY INFORMATION section of this document.

FOR FURTHER INFORMATION CONTACT: Richard D. Smith, Consumer and Governmental Affairs Bureau, Policy Division, at (717) 338-2797 (voice), or email Richard.Smith@fcc.gov.

SUPPLEMENTARY INFORMATION: This is a summary of the Commission's Notice of Proposed Rulemaking (NPRM), FCC 12-56, adopted on May 21, 2012, and released on May 22, 2012, in CG Docket No. 12-129. The full text of the NPRM and copies of any subsequently filed documents in this matter will be available for public inspection and copying via ECFS, and during regular business hours at the FCC Reference Information Center, Portals II, 445 12th Street SW., Room CY-A257, Washington, DC 20554. They may also be purchased from the Commission's duplicating contractor, Best Copy and Printing, Inc., Portals II, 445 12th Street SW., Room CY-B402, Washington, DC 20554, telephone: (202) 488-5300, fax: (202) 488-5300, or Internet: www.bcpiweb.com. This document can also be downloaded in Word or Portable Document Format (“PDF”) at http://www.fcc.gov/document/fcc-initiates-proceeding-create-public-safety-do-not-call-registry. To request materials in accessible formats for people with disabilities (Braille, large print, electronic files, audio format), send an email to fcc504@fcc.gov or call the Consumer and Governmental Affairs Bureau at 202-418-0530 (voice), 202-418-0432 (TTY).

Pursuant to 47 CFR 1.1200 et seq., this matter shall be treated as a “permit-but-disclose” proceeding in accordance with the Commission's ex parte rules. Persons making ex parte presentations must file a copy of any written presentation or a memorandum summarizing any oral presentation within two business days after the presentation (unless a different deadline applicable to the Sunshine period applies). Persons making oral ex parte presentations are reminded that memoranda summarizing the presentation must: (1) List all persons attending or otherwise participating in the meeting at which the ex parte presentation was made; and (2) summarize all data presented and arguments made during the presentation. If the presentation consisted in whole or in part of the presentation of data or arguments already reflected in the presenter's written comments, memoranda, or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with § 1.1206(b) of the Commission's rules. In proceedings governed by § 1.49(f) or for which the Commission has made available a method of electronic filing, written ex parte presentations and memoranda summarizing oral ex parte presentations, and all attachments thereto, must be filed through the electronic comment filing system available for that proceeding, and must be filed in their native format (e.g., .doc, .xml, .ppt, searchable .pdf). Participants in this proceeding should familiarize themselves with the Commission's ex parte rules. People with disabilities: To request materials in accessible formats for people with disabilities (braille, large print, electronic files, audio format), send an email to fcc504@fcc.gov or call the Consumer and Governmental Affairs Bureau at 202-418-0530 (voice), 202-418-0432 (TTY).

Initial Paperwork Reduction Act of 1995

The NPRM seeks comment on potential new information collection requirement. If the Commission adopts any new information collection requirements, the Commission will publish another notice in the Federal Register inviting the public to comment on the requirements, as required by the Paperwork Reduction Act of 1995, Public Law 104-13 (44 U.S.C. 3501-3520). In addition, pursuant to the Small Business Paperwork Relief Act of 2002, Public Law 107-198, see 44 U.S.C. 3506(c)(4), the Commission seeks comment on how it might “further reduce the information collection burden for small business concerns with fewer than 25 employees.”

Synopsis

1. In the NPRM, the Commission proposes rules to create a specialized Do-Not-Call registry for PSAPs and prohibit the use of automatic dialing equipment to contact those numbers pursuant to the requirements of section 6507 of the Tax Relief Act. Specifically, the Commission seeks comment on the most efficient means of establishing a PSAP Do-Not-Call registry, the process for accessing the registry by operators of automatic dialing equipment, safeguards to protect the registry from unauthorized disclosure or dissemination, rules to prohibit the use of automatic dialing equipment to contact numbers on the registry, and the enforcement provisions contained in section 6507(c) of the Tax Relief Act. In particular, the Commission seeks comment on the costs and benefits of the proposals, including from interested parties that have experience with the National Do-Not-Call registry.

Establishment of a PSAP Do-Not-Call Registry

2. The Commission proposes to create a PSAP Do-Not-Call registry and seek comment on the structure and operation of the proposed registry. Specifically, the Commission seeks comment on the most efficient means of establishing a PSAP Do-Not-Call registry, the process for accessing the registry by operators of automatic dialing equipment, safeguards to protect the registry from unauthorized disclosure or dissemination, rules to prohibit the use of automatic dialing equipment to contact numbers on the registry, and the enforcement provisions contained in section 6507(c) of the Tax Relief Act. In particular, the Commission seeks comment on the costs and benefits of the proposals to implement the various provisions of section 6507.

3. The Commission proposes that PSAPs should be given substantial discretion to designate which numbers to include on the PSAP Do-Not-Call registry so long as they are associated with the provision of emergency services or communications with other public safety agencies. In addition, the Commission proposes that secondary PSAPs should also be permitted to place numbers on the registry. Secondary PSAPs are also vulnerable to autodialed calls in the same way as primary PSAPs.

4. The Commission seeks comment on the best and most efficient way to acquire and verify the PSAP numbers that will be entered into the registry. Are there ways to compile these numbers in an aggregate form from states or localities to minimize burdens on the PSAPs and the administrator of the registry?

5. Alternatively, should individual PSAPs register the telephone numbers that they wish to include on the registry? If so, what is the best method for PSAPs to transmit such numbers for inclusion on the registry? Who should be authorized to submit the telephone numbers to be entered into the registry on behalf of a PSAP? The Commission notes that section 6507(b)(1) of the Tax Relief Act makes reference to “verified” PSAP “administrators or managers.” What manner of PSAP employee should constitute an “administrator or manager” for purposes of this provision?

6. The Commission seeks comment on the most efficient and effective way to establish and maintain the PSAP Do-Not-Call registry. As noted throughout this Notice, the FTC has administered through a contractor the National Do-Not-Call registry for nearly a decade. The Commission seeks comment on whether and, if so, to what extent, the FTC's approach is a useful and cost effective model for the PSAP registry. The Commission also asks whether there are ways in which the two agencies could cooperate in order to lessen the costs involved in establishing the new PSAP registry and, if so, how the Commission would calculate and fund its share of the cost of an inter-agency effort.

7. What process should be implemented to allow for verification in accordance with section 6507(b)(2) that the registered numbers should continue to appear on the registry? Should there be an ongoing means for PSAPs to remove numbers from the registry at any time? The Commission seeks comment on these and any other issues related to verification of registered numbers pursuant to section 6507(b)(2) of the Tax Relief Act.

Access to the Registry by Operators of Automatic Dialing Equipment

8. The Commission seeks comment on the most efficient and effective way to grant and track access to the PSAP Do-Not-Call registry. The Commission proposes that registry access be limited to operators of automatic dialing equipment for the limited purpose of compliance with the prohibition on contacting PSAP numbers in the registry. The Commission proposes that anyone who uses an “automatic telephone dialing system,” as defined in section 227(a)(1) of the Communications Act, to make calls qualifies as an operator of “automatic dialing” or “robocall” equipment for purposes of the Tax Relief Act. The Commission seeks comment on these proposals and any other issues that are relevant to our implementation of section 6507(b)(3) of the Tax Relief Act.

9. Consistent with the operation of the existing National Do-Not-Call registry, the Commission proposes to require that any entity that accesses the PSAP registry certify, under penalty of law, that it is accessing the registry solely to determine whether any telephone numbers to which it intends to place autodialed calls are listed on such registry for the purpose of complying with section 6507 of the Tax Relief Act. The Commission proposes to prohibit use of the registry by operators of automatic dialing equipment for any other purpose. The Commission proposes that the first time an operator of automatic dialing equipment accesses the registry, the operator establish a profile and provide identifying information about its organization that would include the operator's name and all alternative names under which the registrant operates, a business address, a contact person, the contact person's telephone number and email address, and a list of all outbound telephone numbers used for autodialing. The Commission proposes that all information be updated within 30 days of the date on which any change occurs. The Commission proposes that every operator of automatic dialing equipment with access to the PSAP registry be given a unique identification number, which must be submitted each time the secure database is accessed. The Commission also proposes that this number be used to grant and track access to the secure database of registered PSAP numbers.

10. Once operators of automatic dialing equipment have successfully registered and obtained a unique identification number, the Commission seeks comment on how the registered telephone numbers should be made accessible to them. Does the FTC's National Do-Not-Call registry provide a useful model for these steps? How often should operators of automatic dialing equipment be required to access the registry of PSAP numbers and update their calling lists to delete registered PSAP numbers?

Protecting the Registry From Unauthorized Disclosure or Dissemination

11. The Commission proposes to adopt a rule that would prohibit parties from selling, renting, leasing, purchasing, or using the PSAP registry, or any part thereof, for any purpose except compliance with this section and any state or Federal law enacted to prevent autodialed calls to telephone numbers in the registry. In addition, we propose safeguards designed to limit and track access to the registry, including a requirement that operators of automatic dialing equipment certify, under penalty of law, that they are accessing the registry solely to prevent autodialed calls to numbers on the registry.

12. The Commission proposes that access to the registered numbers be limited to operators of automated dialing equipment who have complied with the authorized process to obtain access to that information. However, the Commission seeks comment on whether there is any reason that the third parties on whose behalf autodialed calls are made should have access to these numbers. Does section 6507(b)(4) of the Tax Relief Act prohibit such third parties from being provided access to these numbers? The Commission seeks comment on this proposal and any other issues relevant to our implementation of section 6507(b)(4) of the Tax Relief Act.

Prohibiting the Use of Automatic Dialing or “Robocall” Equipment to Contact Registered PSAP Numbers

13. The Commission proposes to prohibit operators of automatic dialing or robocall equipment from contacting any PSAP number that has been registered on the PSAP Do-Not-Call registry. The Commission notes that the it has concluded in the Telephone Consumer Protection Act (TCPA) context, under section 227 of the Communications Act, that the prohibition on using autodialers to contact emergency telephone lines encompasses both voice and text calls, including short message service calls. Similarly, the Commission proposes that the use of an autodialer to make either voice or text message calls to numbers on the PSAP registry constitutes a prohibited contact under section 6507(b)(5) of the Tax Relief Act.

14. The Commission proposes to use the TCPA's definition, and the Commission's relevant interpretations of that term, for purposes of determining the meaning of “automatic dialing” and “robocall” equipment in the Tax Relief Act. The Commission seeks comment on the implications, if any, of using the terms “automatic dialing” or “robocall” as used in the Tax Relief Act synonymously with “automatic telephone dialing system” in the TCPA, given that the latter term includes systems with the capacity to store and produce numbers. The Commission seeks comment on these proposals and any other issues relevant to our implementation of section 6507(b)(5) of the Tax Relief Act.

15. The Commission also seeks comment on whether there are any situations in which PSAPs may wish to receive an autodialed call.

Enforcement

16. The Commission proposes to amend section 1.80 of its rules governing forfeiture proceedings and forfeiture amounts to incorporate these new enforcement provisions specifically for the purposes of implementing section 6507 of the Tax Relief Act.

17. The Commission seeks comment on how the enforcement provisions, including the monetary penalties, of the Tax Relief Act should be implemented consistent with the Communications Act. The Commission seeks comment on whether section 6507(c)(3) of the Tax Relief Act requires the Commission to impose monetary penalties upon a first violation, or whether section 503(b)(5) of the Communications Act, which is also applicable to section 6507 of the Tax Relief Act by virtue of section 6003(a) of the Tax Relief Act, requires the Commission to issue a citation first to non-licensee and non-applicant violators before it may determine liability for a monetary forfeiture.

18. The Commission proposes to adopt the specific monetary penalties for violations of sections 6507(b)(4) and (b)(5) of the Tax Relief Act and otherwise treat any violations of those provisions as violations of the Communications Act. Section 6507(c)(3) of the Tax Relief Act provides for the imposition of fines that vary depending “upon whether the conduct leading to the violation was negligent, grossly negligent, reckless, or willful, and depending on whether the violation was a first or subsequent offence.” The Commission seeks comment on how these terms should be interpreted in determining the monetary penalties for violations of the Tax Relief Act. To the extent that the Commission has addressed such terms in an enforcement context, it seeks comment on whether to adopt those definitions for purposes of the Tax Relief Act.

19. The Commission seeks comment on whether it should establish a safe harbor provision for operators of automatic dialing equipment who can demonstrate that any prohibited call to or disclosure of the registered numbers is the result of an error despite routine business practices designed to ensure compliance.

Initial Regulatory Flexibility Analysis

20. As required by the Regulatory Flexibility Act of 1980, as amended, (RFA), the Commission has prepared this Initial Regulatory Flexibility Analysis (IRFA) of the possible significant economic impact on a substantial number of small entities by the policies and rules proposed in the NPRM. Written public comments are requested on the IRFA. Comments must be identified as responses to the IRFA and must be filed by the deadlines for comments on the NPRM provided on the first page of this document. The Commission will send a copy of the NPRM, including the IRFA, to the Chief Counsel for Advocacy of the Small Business Administration.

Need for, and Objectives of, the Proposed Rules

21. The “Middle Class Tax Relief and Job Creation Act of 2012” requires the Commission to establish a registry that allows PSAPs to register telephone numbers on a Do-Not-Call list and prohibits the use of automatic dialing or “robocall” equipment to contact those numbers. This requirement is designed to address concerns about the use of autodialers, which can generate large numbers of phone calls, to tie up public safety lines, and divert critical responder resources away from emergency services. Operators of automatic dialing equipment, which may include small businesses, will be required to provide certain contact information to obtain access to a registry of PSAP telephone numbers. Such operators must periodically update the list of registered numbers and take measures to ensure that they do not use such automatic dialing equipment to contact any number listed on that registry or disclose the registered numbers to any other party.

Legal Basis

22. The legal basis for any actions that may be taken pursuant to the NPRM are contained in sections 1, 2, 4(i), 227 and 503 of the Communications Act of 1934, as amended, 47 U.S.C. 151, 152, 154(i), 227, and 503 and sections 6003 and 6507 of the Middle Class Tax Relief and Job Creation Act of 2012. In particular, section 6507 of the Middle Class Tax Relief and Job Creation Act of 2012 requires the Commission to “initiate a proceeding to create a specialized Do-Not-Call registry for public safety answering points.”

Description and Estimate of the Number of Small Entities to Which the Proposed Rules Will Apply

23. The RFA directs agencies to provide a description of, and where feasible, an estimate of the number of small entities that will be affected by the proposed rules, if adopted. The RFA generally defines the term “small entity” as having the same meaning as the terms “small business,” “small organization,” and “small governmental jurisdiction.” In addition, the term “small business” has the same meaning as the term “small business concern” under the Small Business Act. Under the Small Business Act, a “small business concern” is one that: (1) Is independently owned and operated; (2) is not dominant in its field of operation; and (3) meets any additional criteria established by the Small Business Administration (SBA).

24. In general, our proposed rules prohibiting the use of automatic dialing equipment to contact numbers on the PSAP Do-Not-Call registry would apply to a wide range of entities. The proposed rules, in particular, would apply to all operators of automatic dialing equipment. Therefore, the Commission expects that the proposals in this proceeding could have a significant economic impact on a substantial number of small entities. Determining the precise number of small entities that would be subject to the requirements proposed in the NPRM, however, is not readily feasible. Therefore, the Commission invites comment on such number and, after evaluating the comments, will examine further the effect of any rule changes on small entities in the Final Regulatory Flexibility Analysis. Below, the Commission has described some current data that are helpful in describing the number of small entities that might be affected by our proposed action, if adopted.

25. Nationwide, there are a total of approximately 29.6 million small businesses, according to the SBA. A “small organization” is generally “any not-for-profit enterprise which is independently owned and operated and is not dominant in its field.” Nationwide, as of 2007, there were approximately 1.6 million small organizations.

26. Small Businesses, Small Organizations, and Small Governmental Jurisdictions. The Commission's action may, over time, affect small entities that are not easily categorized at present. The Commission therefore describes here, at the outset, three comprehensive, statutory small entity size standards. First, nationwide, there are a total of approximately 27.5 million small businesses, according to the SBA. In addition, a “small organization” is generally “any not-for-profit enterprise which is independently owned and operated and is not dominant in its field.” Nationwide, as of 2007, there were approximately 1,621,315 small organizations. Finally, the term “small governmental jurisdiction” is defined generally as “governments of cities, towns, townships, villages, school districts, or special districts, with a population of less than fifty thousand.” Census Bureau data for 2011 indicate that there were 89,476 local governmental jurisdictions in the United States. The Commission estimates that, of this total, as many as 88,506 entities may qualify as “small governmental jurisdictions.” Thus, the Commission estimates that most governmental jurisdictions are small.

27. Telemarketing Bureaus and Other Contact Centers. According to the Census Bureau, this economic census category “comprises establishments primarily engaged in operating call centers that initiate or receive communications for others-via telephone, facsimile, email, or other communication modes-for purposes such as (1) promoting clients' products or services, (2) taking orders for clients, (3) soliciting contributions for a client; and (4) providing information or assistance regarding a client's products or services.” The SBA has developed a small business size standard for this category, which is: all such entities having $7 million or less in annual receipts. According to Census Bureau data for 2007, there were 2,100 firms in this category that operated for the entire year. Of this total, 1,885 firms had annual sales of under $5 million, and an additional 145 had sales of $5 million to $9,999,999. Thus, the majority of firms in this category can be considered small.

Description of Projected Reporting, Recordkeeping, and Other Compliance Requirements

28. The Tax Relief Act requires the Commission to establish a Do-Not-Call registry for PSAPs. The Act specifies that PSAPs will be permitted to register telephone numbers on this registry. This allows PSAPs or their designated representatives to review their current telephone numbers and then provide those numbers to the administrator of the registry for inclusion on the PSAP Do-Not-Call registry. This will necessitate some administrative functions. In addition, a process must be adopted for verifying, no less frequently than once every 7 years, that the registered numbers should continue to appear on the registry. This provision may require PSAPs to periodically check and verify which numbers should continue to be included on the registry. The Tax Relief Act also prohibits the use of automatic dialing or “robocall” equipment to contact numbers listed on the Do-Not-Call registry. As a result, operators of automatic dialing equipment will be required to periodically check the registry and update their calling systems to ensure that they do not contact any telephone number listed on the PSAP Do-Not-Call registry. In order to access the registry, operators of automatic dialing equipment will be required to provide contact information and certify that they will not use the telephone numbers for any purpose other than compliance with this Act. In addition, a process will need to be developed to ensure that the list of registered numbers obtained from the PSAP Do-Not-Call registry is not disclosed or disseminated for any purpose other than compliance with this Act. Such a process may entail training personnel, recording access to such information in a secure manner, and updating automatic dialing systems to ensure that such equipment is not used to contact numbers on the PSAP registry.

Steps Taken To Minimize Significant Economic Impact on Small Entities, and Significant Alternatives Considered

29. In the NPRM, the Commission has sought comment generally on how to implement the specific provisions of the Tax Relief Act in a cost-effective manner that minimizes the potential burdens on PSAPs and any operator of automatic dialing equipment subject to our rules. The Commission notes, for example, that the FTC's National Do-Not-Call list has been operational for nearly a decade. Many operators of automatic dialing equipment subject to our proposed rules are familiar with that system and the Commission seeks comment on whether the operation of that existing registry provides any guidance on how the PSAP registry should be operated in order to minimize compliance burdens. The Commission seeks comment on whether it would be useful to offer such operators the ability to gain access to the PSAP registry by specific geographic areas or area codes rather than downloading the entire database. This option could offer smaller businesses cost savings by limiting the telephone numbers which they must download to only those that are most relevant to the calls they are making. The Commission also seeks comment on whether to establish a safe harbor provision for those who can demonstrate that any prohibited call or disclosure of the registered PSAP numbers is the result of an error despite routine business practices designed to ensure compliance. In addition, the Commission seeks comment on the most efficient ways for PSAPs to compile and download the numbers which they want to enter into the PSAP registry. For example, to alleviate potential burdens on individual PSAPs, the Commission seeks comment on whether states or localities can do this on an aggregate basis or whether there are existing databases of such information.

Federal Rules That May Duplicate, Overlap, or Conflict With the Proposed Rules

30. The TCPA prohibits certain categories of automated calls absent an emergency purpose or the “prior express consent” of the called party. 47 U.S.C. 227(b)(1)(A). Specifically, this provision prohibits the use of “automatic telephone dialing systems” when calling any emergency telephone lines, including 911 lines and any emergency line of a hospital, medical physician or service office, health care facility, poison control center, or fire protection or law enforcement agency. 47 U.S.C. 227(b)(1)(A). See also 47 CFR 64.1200(a)(1). As a result, the use of autodialers to call these numbers is prohibited under our existing rules absent a recognized exception. To the extent that any of the same emergency numbers are included in the PSAP Do-Not-Call registry, the protections afforded by our proposed rules from autodialed calls will overlap with the existing TCPA rules.

Ordering Clauses

31. Pursuant to sections 1, 2, 4(i), 227 and 503 of the Communications Act of 1934, as amended, 47 U.S.C. 151, 152, 154(i), 227, 503, and sections 6003 and 6507 of the Middle Class Tax Relief and Job Creation Act of 2012, that the Notice of Proposed Rulemaking is adopted.

32. The Commission's Consumer and Governmental Affairs Bureau, Reference Information Center, shall send a copy of the Notice of Proposed Rulemaking, including the Initial Regulatory Flexibility Analysis, to the Chief Counsel for Advocacy of the Small Business Administration.

List of Subjects

47 CFR Part 1

Administrative practice and procedure.

47 CFR Part 64

Reporting and recordkeeping requirements, Telecommunications, Telephone.

Federal Communications Commission.
Marlene H. Dortch,
Secretary.

Proposed Rule

For the reasons discussed in the preamble, the Federal Communications Commission proposes to amend parts 1 and 64 as follows:

PART 1—PRACTICE AND PROCEDURE

Subpart A—General Rules of Practice and Procedure

1. The authority citation part 1 is revised to read as follows:

Authority: 15 U.S.C. 79 et seq.; 47 U.S.C. 151, 154(i), 154(j), 155, 157, 225, 227, 303(r), and 309 and the Middle Class Tax Relief and Job Creation Act of 2012, Pub. L. No. 112-96.

2. Amend section 1.80 by adding new paragraph (a)(6), redesignating paragraphs (b)(5) and (b)(6) as paragraphs (b)(7) and (b)(8), and by add new paragraphs (b)(5) and (b)(6) to read as follows:

§ 1.80 Forfeiture proceedings.

(a) * * *

(6) Violated any provision of section 6507 of the Middle Class Tax Relief and Job Creation Act of 2012 or any rule, regulation, or order issued by the Commission under that statute.

* * * * *

(b) * * *

(5) If a violator who is granted access to the Do-Not-Call registry of public safety answering points discloses or disseminates any registered telephone number without authorization, in violation of section 6507(b)(4) of the Middle Class Tax Relief and Job Creation Act of 2012, the monetary penalty for such unauthorized disclosure or dissemination of a telephone number from the registry shall be not less than $100,000 per incident nor more than $1,000,000 per incident depending upon whether the conduct leading to the violation was negligent, grossly negligent, reckless, or willful, and depending on whether the violation was a first or subsequent offense.

(6) If a violator uses automatic dialing equipment to contact a telephone number on the Do-Not-Call registry of public safety answering points, in violation of section 6507(b)(5) of the Middle Class Tax Relief and Job Creation Act of 2012, the monetary penalty for contacting such a telephone number shall be not less than $10,000 per call nor more than $100,000 per call depending on whether the violation was negligent, grossly negligent, reckless, or willful, and depending on whether the violation was a first or subsequent offense.

* * * * *

PART 64—MISCELLANEOUS RULES RELATING TO COMMON CARRIERS

Subpart L—Restrictions on Telemarketing and Telephone Solicitation

1. The authority citation for part 64 is revised to read as follows:

Authority: 47 U.S.C. 154, 254(k); 403(b)(2)(B), (c), Pub. L. 104-104, 110 Stat. 56. Interpret or apply 47 U.S.C. 201, 218, 222, 225, 226, 227, 228, 254(k), 616, 620 and the Middle Class Tax Relief and Job Creation Act of 2012, Pub. L. No. 112-96 unless otherwise noted.

2. Amend Subpart L by adding new section 64.1202 to read as follows:

§ 64.1202 Public safety answering point do-not-call registry.

(a) As used in this section, the following terms are defined as:

(1) Operators of automatic dialing or robocall equipment. Any person or entity who uses an automatic telephone dialing system, as defined in section 227(a)(1) of the Communications Act of 1934, as amended, to make telephone calls with such equipment.

(2) Public Safety Answering Point (PSAP). A facility that has been designated to receive emergency calls and route them to emergency service personnel pursuant to section 222(h)(4) of the Communications Act of 1934, as amended. As used in this section, this term includes both primary and secondary PSAPs.

(b) An operator of automatic dialing or robocall equipment is prohibited from using such equipment to contact any telephone number registered on the PSAP Do-Not-Call registry. This prohibition on using automatic dialing equipment to contact numbers on the PSAP Do-Not-Call registry encompasses both voice and text calls. Such Do-Not-Call registrations must be honored indefinitely, or until the registration is removed by a designated PSAP representative or the Commission or its designated registry administrator.

(c) An operator of automatic dialing or robocall equipment may not obtain access or use the PSAP Do-Not-Call registry until it has first provided to the Commission or its designated registry administrator contact information that includes the operator's name and all alternative names under which the registrant operates, a business address, a contact person, the contact person's telephone number and email address, and a list of all outbound telephone numbers used for autodialing, and thereafter obtained a unique identification number from the Commission or its designated registry administrator. All information provided to the Commission or its designated registry administrator must be updated within 30 days of making any change to such information. In addition, an operator must certify during each use, under penalty of law, that it is accessing the registry solely to prevent autodialed calls to numbers on the registry.

(d) An operator of automatic dialing or robocall equipment that accesses the PSAP Do-Not-Call registry shall, to prevent such calls to any telephone number on the registry, employ a version of the PSAP Do-Not-Call registry obtained from the registry administrator no more than 31 days prior to the date any call is made, and shall maintain records documenting this process.

(e) No person or entity, including an operator of automatic dialing equipment or robocall equipment, may sell, rent, lease, purchase or use the PSAP Do-Not-Call registry, or any part thereof, for any purpose except to comply with this section and any such state or Federal law enacted to prevent autodialed calls to telephone numbers in the PSAP registry. Any party granted access to the registry is prohibited from disclosing or disseminating the registered numbers to any other person or entity.

[FR Doc. 2012-15119 Filed 6-20-12; 8:45 am]

BILLING CODE 6712-01-P